DEPARTMENT OF TRANSPORTATION

Federal Aviation Administration

14 CFR Part 97

[Docket No. 30774 ; Amdt. No. 3418 ]

Standard Instrument Approach Procedures, and Takeoff Minimums and Obstacle Departure Procedures; Miscellaneous Amendments

AGENCY: Federal Aviation Administration (FAA), DOT.

ACTION: Final rule.

SUMMARY: This establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective April 4, 2011. The compliance date for each SIAP, associated Takeoff Minimums, and ODP is specified in the amendatory provisions.

The incorporation by reference of certain publications listed in the regulations is approved by the Director of the Federal Register as of April 4, 2011.

ADDRESSES: Availability of matters incorporated by reference in the amendment is as follows:

For Examination—

1. FAA Rules Docket, FAA Headquarters Building, 800 Independence Avenue, SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue, SW., Washington, DC 20591; or

2. The FAA Regional Office of the region in which the affected airport is located.

FOR FURTHER INFORMATION CONTACT: Harry J. Hodges, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR part 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866;(2) is not a “significant rule ” under DOT Regulatory Policies and Procedures (44 FR 11034; February 26,1979) ; and (3)does not warrant preparation of a regulatory evaluation as the anticipated impact is so minimal. For the same reason, the FAA certifies that this amendment will not have a significant economic impact on a substantial number of small entities under the criteria of the Regulatory Flexibility Act.

List of Subjects in 14 CFR Part 97:

Air Traffic Control, Airports, Incorporation by reference, and Navigation (Air).

Issued in Washington, DC, on March 18, 2011.
John McGraw,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 5 MAY 2011

Deadhorse, AK, Deadhorse, RNAV (GPS) Y RWY 5, Amdt 1B

Deadhorse, AK, Deadhorse, RNAV (GPS) Y RWY 23, Amdt 1B

Fayetteville/Springdale, AR, Northwest Arkansas Rgnl, ILS OR LOC/DME RWY 17, Orig

Fayetteville/Springdale, AR, Northwest Arkansas Rgnl, ILS OR LOC/DME RWY 35, Orig

Fayetteville/Springdale, AR, Northwest Arkansas Rgnl, RNAV (GPS) RWY 17, Orig

Fayetteville/Springdale, AR, Northwest Arkansas Rgnl, RNAV (GPS) RWY 35, Orig

Fayetteville/Springdale, AR, Northwest Arkansas Rgnl, Takeoff Minimums and Obstacle DP, Amdt 3

Taylor, AZ, Taylor Muni, Takeoff Minimums and Obstacle DP, Amdt 1

Rio Vista, CA, Rio Vista Muni, RNAV (GPS) RWY 25, Amdt 1

Santa Ana, CA, John Wayne Airport-Orange County, NDB RWY 19R, Amdt 1, CANCELLED

Daytona Beach, FL, Daytona Beach Intl, RNAV (GPS) RWY 34, Amdt 2

Tampa, FL, Tampa Executive, RNAV (GPS) RWY 18, Amdt 1

Atlanta, GA, Cobb County-McCollum Field, ILS OR LOC RWY 27, Amdt 4

Atlanta, GA, Cobb County-McCollum Field, RNAV (GPS) RWY 27, Amdt 4

Cochran, GA, Cochran, RNAV (GPS) RWY 11, Amdt 1

Sandersville, GA, Kaolin Field, RNAV (GPS) RWY 13, Amdt 2

Sandersville, GA, Kaolin Field, RNAV (GPS) RWY 31, Amdt 2

Lanai City, HI, Lanai, RNAV (GPS) RWY 3, Orig-A

Algona, IA, Algona Muni, NDB RWY 12, Amdt 6

Algona, IA, Algona Muni, RNAV (GPS) RWY 12, Orig

Algona, IA, Algona Muni, RNAV (GPS) RWY 30, Amdt 1

Algona, IA, Algona Muni, VOR/DME-A, Amdt 7

Carroll, IA, Arthur N Neu, NDB Rwy 31, Amdt 7, CANCELLED

Decorah, IA, Decorah Muni, RNAV (GPS) RWY 11, Orig

Alton/St. Louis, IL, St. Louis Rgnl, ILS OR LOC RWY 29, Amdt 12

Alton/St. Louis, IL, St. Louis Rgnl, LOC BC RWY 11, Amdt 9

Alton/St. Louis, IL, St. Louis Rgnl, NDB RWY 17, Amdt 12

Alton/St. Louis, IL, St. Louis Rgnl, RNAV (GPS) RWY 11, Amdt 2

Alton/St. Louis, IL, St. Louis Rgnl, RNAV (GPS) RWY 17, Amdt 1

Alton/St. Louis, IL, St. Louis Rgnl, RNAV (GPS) RWY 29, Amdt 1

Alton/St. Louis, IL, St. Louis Rgnl, RNAV (GPS) RWY 35, Amdt 1

Alton/St. Louis, IL, St. Louis Rgnl, Takeoff Minimums and Obstacle DP, Amdt 2

Chicago/Prospect Hgts/Wheeling, IL, Chicago Executive, Takeoff Minimums and Obstacle DP, Amdt 3

Logansport, IN, Logansport/Cass County, RNAV (GPS) RWY 9, Amdt 1

Logansport, IN, Logansport/Cass County, RNAV (GPS) RWY 27, Amdt 1

Logansport, IN, Logansport/Cass County, VOR/DME RNAV 27, Amdt 3, CANCELLED

Augusta, ME, Augusta State, GPS RWY 17, Orig-A, CANCELLED

Augusta, ME, Augusta State, RNAV (GPS) RWY 17, Orig

Augusta, ME, Augusta State, VOR RWY 35, Amdt 6

Augusta, ME, Augusta State, VOR/DME RWY 17, Amdt 5

Augusta, ME, Augusta State, VOR/DME-A, Amdt 12

Alpena, MI, Alpena County Rgnl, ILS OR LOC RWY 1, Amdt 9

Ann Arbor, MI, Ann Arbor Muni, RNAV (GPS) RWY 6, Amdt 2

Ann Arbor, MI, Ann Arbor Muni, RNAV (GPS) RWY 24, Amdt 2

Battle Creek, MI, W K Kellogg, ILS OR LOC RWY 23R, Amdt 18

Battle Creek, MI, W K Kellogg, NDB RWY 23R, Amdt 18

Battle Creek, MI, W K Kellogg, RNAV (GPS) RWY 5L, Amdt 1

Battle Creek, MI, W K Kellogg, RNAV (GPS) RWY 23R, Amdt 1

Cheboygan, MI, Cheboygan County, RNAV (GPS) RWY 28, Amdt 1

Cheboygan, MI, Cheboygan County, VOR RWY 10, Amdt 9

Marlette, MI, Marlette, RNAV (GPS) RWY 9, Amdt 1

Marlette, MI, Marlette, RNAV (GPS) RWY 19, Orig

Marlette, MI, Marlette, RNAV (GPS) RWY 27, Amdt 1

Marlette, MI, Marlette, VOR/DME-A, Amdt 6

South Haven, MI, South Haven Area Rgnl, RNAV (GPS) RWY 4, Amdt 1

South Haven, MI, South Haven Area Rgnl, RNAV (GPS) RWY 22, Amdt 1

South Haven, MI, South Haven Area Rgnl, VOR RWY 22, Amdt 11

Hattiesburg, MS, Hattiesburg Bobby L Chain Muni, RNAV (GPS) Y RWY 13, Amdt 2A

Clinton, NC, Clinton-Sampson County, LOC RWY 6, Amdt 3

Clinton, NC, Clinton-Sampson County, RNAV (GPS) RWY 6, Amdt 2

Clinton, NC, Clinton-Sampson County, RNAV (GPS) Y RWY 24, Amdt 1

Clinton, NC, Clinton-Sampson County, RNAV (GPS) Z RWY 24, Orig

Clinton, NC, Clinton-Sampson County, Takeoff Minimums and Obstacle DP, Amdt 2

Clinton, NC, Clinton-Sampson County, VOR/DME-A, Amdt 6

Edenton, NC, Northeastern Rgnl, ILS OR LOC RWY 19, Orig

Edenton, NC, Northeastern Rgnl, LOC RWY 19, Orig, CANCELLED

Edenton, NC, Northeastern Rgnl, RNAV (GPS) RWY 19, Amdt 2

Oakes, ND, Oakes Muni, GPS RWY 30, Orig-A, CANCELLED

Oakes, ND, Oakes Muni, RNAV (GPS) RWY 30, Orig

Oakes, ND, Oakes Muni, Takeoff Minimums and Obstacle DP, Amdt 1

Ogallala, NE, Searle Field, Takeoff Minimums and Obstacle DP, Amdt 4

Scottsbluff, NE, Western Neb, Rgnl/William B. Heilig Field, ILS OR LOC RWY 30, Amdt 10

Wayne, NE, Wayne Muni, Takeoff Minimums and Obstacle DP, Amdt 4

Manville, NJ, Central Jersey Rgnl, RNAV (GPS) RWY 7, Amdt 1

Manville, NJ, Central Jersey Rgnl, RNAV (GPS) RWY 25, Amdt 1

Clayton, NM, Clayton Muni Airpark, Takeoff Minimums and Obstacle DP, Amdt 1

Socorro, NM, Socorro Muni, RNAV (GPS) Z RWY 33, Orig, CANCELLED

Portland, OR, Portland Intl, ILS OR LOC RWY 10L, Amdt 3A

Corry, PA, Corry-Lawrence, Takeoff Minimums and Obstacle DP, Orig-A

Lehighton, PA, Jake Arner Memorial, RNAV (GPS) RWY 8, Amdt 1

Lehighton, PA, Jake Arner Memorial, RNAV (GPS) RWY 26, Amdt 1

Lehighton, PA, Jake Arner Memorial, Takeoff Minimums and Obstacle DP, Amdt 1

Pittsburgh, PA, Pittsburgh Intl, RNAV (RNP) Z RWY 32, Amdt 1A

Eastland, TX, Eastland Muni, RNAV (GPS) RWY 17, Orig

Eastland, TX, Eastland Muni, RNAV (GPS) RWY 35, Amdt 2

Ennis, TX, Ennis Muni, Takeoff Minimums and Obstacle DP, Orig

Ennis, TX, Ennis Muni, VOR/DME-A, Amdt 1

Gladewater, TX, Gladewater Muni, RNAV (GPS) RWY 14, Orig

Gladewater, TX, Gladewater Muni, RNAV (GPS) RWY 32, Orig

Gladewater, TX, Gladewater Muni, VOR/DME RWY 14, Amdt 3

Granbury, TX, Granbury Rgnl, Takeoff Minimums and Obstacle DP, Amdt 2

Houston, TX, Pearland Rgnl, RNAV (GPS) RWY 32, Amdt 3

Junction, TX, Kimble County, Takeoff Minimums and Obstacle DP, Amdt 2

Livingston, TX, Livingston Muni, Takeoff Minimums and Obstacle DP, Amdt 1

Mexia, TX, Mexia-Limestone Co, Takeoff Minimums and Obstacle DP, Orig

San Antonio, TX, San Antonio Intl, RNAV (RNP) Z RWY 3, Orig

San Antonio, TX, San Antonio Intl, RNAV (RNP) Z RWY 12R, Orig

San Antonio, TX, San Antonio Intl, RNAV (RNP) Z RWY 21, Orig

San Antonio, TX, San Antonio Intl, RNAV (RNP) Z RWY 30L, Orig

Sherman-Denison, TX, North Texas Rgnl/Perrin Field, Takeoff Minimums and Obstacle DP, Orig

Tyler, TX, Tyler Pounds Rgnl, ILS or LOC RWY 13, Amdt 20F

Tyler, TX, Tyler Pounds Rgnl, RNAV (GPS) RWY 4, Amdt 1A

Tyler, TX, Tyler Pounds Rgnl, VOR/DME RWY 4, Amdt 3E

Heber, UT, Heber City Muni-Russ McDonald Field, COOLI TWO Graphic DP

Heber, UT, Heber City Muni-Russ McDonald Field, Takeoff Minimums and Obstacle DP, Amdt 2

Pasco, WA, Tri-Cities, RNAV (GPS) Y RWY 3L, Amdt 1A

Pasco, WA, Tri-Cities, RNAV (GPS) Y RWY 12, Amdt 1A

Pasco, WA, Tri-Cities, RNAV (GPS) Y RWY 21R, Amdt 1A

Pasco, WA, Tri-Cities, RNAV (GPS) Y RWY 30, Amdt 2A

Pasco, WA, Tri-Cities, RNAV (RNP) Z RWY 3L, Orig

Pasco, WA, Tri-Cities, RNAV (RNP) Z RWY 12, Orig

Pasco, WA, Tri-Cities, RNAV (RNP) Z RWY 21R, Orig

Pasco, WA, Tri-Cities, RNAV (RNP) Z RWY 30, Orig

Delavan, WI, Lawn Lake, RNAV (GPS) RWY 18, Orig-A, CANCELLED

Delavan, WI, Lawn Lake, RNAV (GPS) RWY 36, Orig, CANCELLED

Delavan, WI, Lawn Lake, Takeoff Minimums and Obstacle DP, Amdt 1, CANCELLED

[FR Doc. 2011-7607 Filed 4-1-11; 8:45 am]

BILLING CODE 4910-13-P